DEPARTMENT OF COMMERCE

[I.D. 051603A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Commercial Harvesters and Recreational Party and Charter Boat Socio-cultural and Economic Data Collection Pilot.

Form Number(s): None.

OMB Approval Number: 0648-0400.

Type of Request: Regular submission.

Burden Hours: 793.

Number of Respondents: 1,555.

Average Hours Per Response: 15 minutes for an interview, 15 minutes for a vessel captain/owner to gather business information.

Needs and Uses: This is a request to extend Paperwork Reduction Act approval for data collection for the Socio-Economic Pilot Study sponsored by the Atlantic Coast Cooperative Statistics Program (ACCSP) and conducted by the National Marine Fisheries Service. Due to a one year delay in initiating the project, data collection efforts must be extended through June 30, 2004 to allow for completion of the proposed data collection cycle.This pilot study is designed to develop socio-cultural and economic information systems for commercial and recreational fisheries. Three specific arenas will be addressed during this study. The first is to identify and address potential problems with the mechanics of implementing the system. These include all data gathering, entry, and storage activities as well as the ability to link the data to all other ACCSP data. The second is to carry out a field test of the survey instrument across the different cultural and socio-economic contexts in which the data-gathering system must eventually be implemented. Field testing questions and instruments is standard procedure in preparing for any survey research. The third arena is to verify the economic model. Initial data gathering in the summer flounder fishery will be carried out and the data used for test runs of several standard economic models.

Affected Public: Business or other for-profit organizations, individuals or households.

Frequency: Quarterly, semi-annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).Written comments and recommendations for the proposed information collection should be sent within 30 days of publication of this notice to David Rostker, OMB Desk Officer, Room 10202, New Executive Office Building, Washington, DC 20503.

Dated: May 15, 2003.
Gwellnar Banks,
Management Analyst, Office of the Chief Information Officer.

[FR Doc. 03-12738 Filed 5-20-03; 8:45 am]

BILLING CODE 3510-22-S